ENVIRONMENTAL PROTECTION AGENCY

[EPA-HW-OECA-2014-0035; FRL—9982-67-OEI]

Information Collection Request Submitted to OMB for Review and Approval; Comment Request; NSPS for Sulfuric Acid Plants (Renewal)

AGENCY: Environmental Protection Agency (EPA).

ACTION: Notice.

SUMMARY: The Environmental Protection Agency (EPA) has submitted an information collection request (ICR), NSPS for Sulfuric Acid Plants (EPA ICR No. 1057.14, OMB Control No. 2060-0041), to the Office of Management and Budget (OMB) for review and approval in accordance with the Paperwork Reduction Act. This is a proposed extension of the ICR, which is currently approved through September 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 1, 2018.

ADDRESSES: Submit your comments, referencing Docket ID Number EPA-HQ-OECA-2014-0035, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Sulfuric Acid Plants (40 CFR part 60 Subpart H) apply to both existing facilities and new facilities. New facilities include those that commenced construction, modification or reconstruction after the date of proposal. A sulfuric acid plant is any facility producing sulfuric acid (H2SO4) by the contact process by burning elemental sulfur, alkylation acid, hydrogen sulfide, organic sulfides and mercaptans, or acid sludge. A sulfuric acid plant does not include facilities where conversion to sulfuric acid is used primarily as a means of preventing emissions to the atmosphere of sulfur dioxide (SO2) or other sulfur compounds.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners or operators of sulfuric acid plants.

Respondent's obligation to respond: Mandatory (40 CFR part 60, subpart H).

Estimated number of respondents: 53 (total).

Frequency of response: Initially, occasionally, and semiannually.

Total estimated burden: 13,500 hours (per year). Burden is defined at 5 CFR 1320.3(b).

Total estimated cost: $1,660,000 (per year), which includes $239,000 in annualized capital/startup and/or operation & maintenance costs.

Changes in the estimates: The increase in burden from the most recently-approved ICR is due to an adjustment. Hours were added to approximate the time spent by each source to familiarize with the rule requirements, and the total hours were rounded to three significant digits, which resulted in a small increase in labor hours and O&M costs since the last renewal.

Courtney Kerwin,
Director, Regulatory Support Division.

[FR Doc. 2018-18951 Filed 8-30-18; 8:45 am]

BILLING CODE 6560-50-P